FEDERAL MARITIME COMMISSION

Agreement Filed

The Commission hereby gives notice that on March 21, 2002, the Westbound Transpacific Stabilization Agreement withdrew its proposed Reefer Trade Management Program, FMC Agreement No. 011325-027. The Commission, therefore, will not hold an oral hearing on the matter as noticed in the Federal Register on March 20, 2002, 67 FR 12993.

Dated: March 22, 2002.
Bryant L. VanBrakle,
Secretary.

[FR Doc. 02-7368 Filed 3-26-02; 8:45 am]

BILLING CODE 6730-01-P